ENVIRONMENTAL PROTECTION AGENCY

[FRL-6844-8]

Agency Information Collection Activities; Submission of EPA ICR No. 0922.06 to OMB for Review and Approval; Comment Request

AGENCY: Environmental Protection Agency (EPA).

ACTION: Notice of submission to OMB.

SUMMARY: In compliance with the Paperwork Reduction Act (44 U.S.C. 3501 et seq.), this notice announces that the Information Collection Request (ICR) entitled: Data Call-Ins for the Special Review and Registration Review Programs (EPA ICR No. 0922.06, OMB No. 2070-0057) has been forwarded to the Office of Management and Budget (OMB) for review and approval pursuant to 5 CFR 1320.12. The ICR, which is abstracted below, describes the nature of the information collection and its estimated cost and burden. A Federal Register notice announcing the Agency's intent to seek OMB approval for this ICR and a 60-day public comment opportunity, requesting comments on the request and the contents of the ICR, was issued on March 24, 1999 (64 FR 14229). No comments were received on this ICR during the comment period.

DATES: Additional comments may be submitted on or before September 5, 2000.

ADDRESSES: Send comments to the following addresses:

Ms. Sandy Farmer, U.S. Environmental Protection Agency, Collection Strategies Division (2822), 1200 Pennsylvania Avenue, NW., Washington, DC 20460; and to:

Office of Information and Regulatory Affairs; Office of Management and Budget (OMB), Attention: Desk Officer for EPA, 725 17th Street, NW., Washington, DC 20503.

FOR FURTHER INFORMATION CONTACT: Sandy Farmer by phone at 202-260-2740, or via e-mail at “farmer.sandy@epa.gov”, or using the address indicated below. You can download the ICR from the Internet at http://www.epa.gov/icr. Please refer to EPA ICR No. 0922.06 and OMB Control No. 2070-0057.

SUPPLEMENTARY INFORMATION: The following information collection activity has been submitted to OMB for review and approval pursuant to 5 CFR 1320.12. EPA is asking OMB to approve this ICR for three years.

Title: Data Call-Ins for the Special Review and Registration Review Programs.

ICR Numbers: EPA ICR No. 0922.06; OMB Control No. 2070-0057.

ICR Status: This ICR involves a collection activity that is currently approved and is scheduled to expire on September 30, 2000, and a new collection activity. An Agency may not conduct or sponsor, and a person is not required to respond to a collection of information that is subject to approval under the Paperwork Reduction Act, unless it displays a currently valid OMB control number. The OMB control numbers for EPA's information collections appear on the collection instruments or instructions, in the Federal Register notices for related rulemakings and ICR notices, and, if the collection is contained in a regulation, in a table of OMB approval numbers in 40 CFR part 9.

Abstract: The EPA is responsible for the registration of pesticides as mandated by FIFRA. The information collection document discusses activities for the Special Review Program and the new Registration Review Program. The Special Review Program has been a part of the existing ICR activities for sometime while the new Registration Review Program is an addition to the ICR. Currently, as part of the on-going administrative process under section 6 of FIFRA, registrants are required to submit additional information to EPA regarding unreasonable adverse effects on the environment from the use of the pesticide. EPA may also determine that additional information is needed from the registrant to maintain an existing registration. When the Agency identifies a hazard or a potential hazard from the use of a pesticide that was not known at the time of registration, this information collection is used in the Special Review Program to determine whether regulatory actions are needed.

The Registration Review Program was created by the Food Quality Protection Act in 1996. Under the new Registration Review Program, EPA must periodically review all pesticide registrations (see section 3(g) of FIFRA). Therefore, continued registration of all pesticides, regardless of whether a hazard or potential hazard is identified, requires that the Agency obtain additional data, if necessary, and assess the information necessary for it to determine whether a registration should continue.

Burden: Under the PRA, “burden” means the total time, effort, or financial resources expended by persons to generate, maintain, retain, or disclose or provide information to or for a Federal agency. For this collection it includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. The ICR provides a detailed explanation of this estimate, which is only briefly summarized in this notice:

Respondents/Affected Entities: Pesticide Registrants.

Estimated Number of Respondents: 68.

Frequency of Response: One time and only as needed.

Estimated Total/Average Number of Responses: 1.5 to 8.

Estimated Total Annual Burden: 71,132 hours.

Estimated Total Annualized Non-Labor Costs: $0.

Changes in the Burden Estimates: The total burden associated with this ICR has decreased from 127,741 hours to 71,132. This net reduction is associated with a program increase of 63,780 hours and a decreasing adjustment of 120,389 hours. This change is discussed in detail in the ICR.

According to the procedures prescribed in 5 CFR 1320.12, EPA has submitted this ICR to OMB for review and approval. Any comments related to the renewal of this ICR should be submitted within 30 days of this notice, as described above.

After providing a 30 day opportunity for additional comments from the public, OMB will review and take action on the Agency's request. Periodically, EPA publishes a notice in the Federal Register listing recent OMB actions on the Agency's ICR submissions. If you have any questions about this ICR or the approval process, please contact the person listed in the FOR FURTHER INFORMATION CONTACT section.

Dated: July 20, 2000.
Oscar Morales,
Director, Collection Strategies Division.

[FR Doc. 00-19686 Filed 8-2-00; 8:45 am]

BILLING CODE 6560-50-U